DEPARTMENT OF HEALTH AND HUMAN SERVICES

Centers for Disease Control and Prevention

Notice of Intent To Award Affordable Care Act Funding, Funding Opportunity Announcement CDC-RFA-DP10-1014

AGENCY: Centers for Disease Control and Prevention (CDC), Department of Health and Human Services (HHS).

ACTION: Notice.

SUMMARY: This notice provides notice of CDC's intent to fund continuation cooperative agreement applications under REACH CORE, Racial and Ethnic Approaches to Community Health Communities Organized to Respond and Evaluate. These applications have been previously received and competed in response to CDC Funding Opportunity CDC-RFA-DP10-1014. It is the intent of CDC to provide continuation funding to one (1) previously received and reviewed application with Patient Protection Affordable Care Act (PPACA), Section 4002, appropriations.

Recipient Reporting Requirements Under PPACA

Recipients funded with PPACA appropriations will be required to report project status on an annual basis. Specific reporting requirements will be detailed in the Terms and Conditions of the Notice of Cooperative Agreement Award.

CFDA Number 93.541 is the PPACA specific CFDA number for this initiative. It will replace CFDA Number 93.283 published in the above referenced REACH CORE Funding Opportunity Announcement (FOA).

Award Information

Approximate Current Fiscal Year Funding: $199,700.

Approximate Number of Awards: 1.

Approximate Average Awards: $199,700.

Fiscal Year Funds: 2011.

Anticipated Award Date: September 30, 2011.

Budget Period: 12 months.

Project Period: 12 months.

Application Selection Process: Grantees have been selected based on methodology published in the REACH CORE CDC-RFA-DP10-1014 FOA.

Applications were funded in order by score and rank determined by previously held review panel. In addition, as was referenced in the REACH CORE FOA, funding decisions were made to ensure:

• Geographic diversity across the United States.

• Inclusion of each racial/ethnic group that is specified in CDC-RFA-DP10-1014 is represented.

• Inclusions of each health priority areas that are specified in CDC-RFA-DP10-1014 are represented.

• Representation of communities with evident health disparities.

• Communities who currently lack access to health priority area-related resources and/or with high levels of poverty are represented as documented in the application.

CDC will add the following Authority to that which is reflected in the published Funding Opportunity: Section 4002 of the Patient Protection and Affordability Care Act (Pub. L. 111-148).

DATES: The effective date for this action is September 2, 2011 and remains in effect until the expiration of the one (1) year project period of the PPACA funded applications.

FOR FURTHER INFORMATION CONTACT: Elmira Benson, Deputy Director, Procurement and Grants Office, Centers for Disease Control and Prevention, 2920 Brandywine Road, Atlanta, GA 30341, telephone: (770)488-2802, e-mail: EBenson@cdc.gov.

SUPPLEMENTARY INFORMATION: On March 23, 2010, the President signed into law the Patient Protection and Affordable Care Act (PPACA). PPACA is designed to improve and expand the scope of health care coverage for Americans. Cost savings through disease prevention is an important element of this legislation and PPACA has established a Prevention and Public Health Fund (PPHF) for this purpose. Specifically, the legislation states in Section 4002 that the PPHF is to “provide for expanded and sustained national investment in prevention and public health programs to improve health and help restrain the rate of growth in private and public sector health care costs”. PPACA and the Prevention and Public Health Fund make improving public health a priority with investments to improve public health.

The PPHF states that the Secretary shall transfer amounts in the Fund to accounts within the Department of Health and Human Services to increase funding, over the fiscal year 2008 level, for programs authorized by the public Health Services Act, for prevention, wellness and public health activities including prevention research and health screenings, such as the Community Transformation Grant Program, the Education and Outreach Campaign for Preventative Benefits, and Immunization Programs.

REACH CORE and PPACA legislation affords an important opportunity to advance public health across the lifespan and to reduce health disparities by supporting an intensive community approach to chronic disease prevention and control. Therefore, awarding cooperative agreements with PPACA funds under PPHF to existing grantees to carry out REACH objectives is consistent with the purpose of PPHF, as stated above, to provide for the expanded and sustained national investment in prevention and public health programs. Further, the Secretary allocated funds to CDC, pursuant to the PPHF, for the types of activities that the REACH initiatives are designed to carry out.

Therefore, the REACH program activities CDC proposes to fund with PPACA appropriations are authorized by the amendment to the Public Health Services Act which authorized the Prevention and Wellness Program as embodied in CDC-RFA-DP10-1014.

Dated: August 22, 2011.
Tanja Popovic,
Deputy Associate Director for Science, Centers for Disease Control and Prevention.

[FR Doc. 2011-22528 Filed 9-1-11; 8:45 am]

BILLING CODE 4163-18-P—